FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 962. Interested parties may submit comments on an agreement to the Secretary, Federal Maritime Commission, Washington, DC 20573, within 10 days of the date this notice appears in the Federal Register.

Agreement No.: 011745.

Title: Evergreen/Lloyd Triestino Alliance Agreement.

Parties:

Evergreen Marine Corp. (Taiwan) Ltd.

Lloyd Triestino Di Navegazione S.p.A.

Synopsis: The proposed agreement allows the parties to cooperate on matters relating to the exchange of vessel space and equipment, electronic data interchange, office operations, joint service contracts, rates, and vessel operations and costs in the trade between all U.S. ports and ports in the Far East, Southeast Asia, Indian Subcontinent, Australia, and New Zealand.

By Order of the Federal Maritime Commission.
Dated: January 19, 2001.
Bryant L. VanBrakle,
Secretary.

[FR Doc. 01-2190 Filed 1-23-01; 8:45 am]

BILLING CODE 6730-01-P